DEPARTMENT OF TRANSPORTATION

Federal Motor Carrier Safety Administration

[Docket No. FMCSA-2005-22056]

Public Meeting To Discuss the Implementation of the North American Standard for Cargo Securement

AGENCY: Federal Motor Carrier Safety Administration (FMCSA), DOT.

ACTION: Notice of public meeting.

SUMMARY: FMCSA announces the second in a series of public meetings concerning the implementation of the North American Standard for Protection Against Shifting or Falling Cargo. On September 27, 2002, FMCSA published a final rule revising its regulations concerning protection against shifting and falling cargo for commercial motor vehicles (CMVs) engaged in interstate commerce. Motor carriers operating in the United States were given until January 1, 2004, to comply with the new regulations. On September 23, 2004, Canada's Council of Ministers Responsible for Transportation and Highway Safety approved a new National Safety Code Standard for cargo securement. Full implementation of the new cargo securement requirements in Canada began in the summer of 2005. The purpose of this meeting is second in a series of meetings to discuss the process for ensuring the consistent interpretation of the harmonized cargo securement standards by FMCSA and the Canadian Provinces, and of the issues raised by enforcement agencies and motor carriers in the U.S., and to address potential implementation issues for the Canadian Provinces, and motor carriers operating in Canada.

DATES: The meeting will be held on September 29-30, 2005. The meeting will begin at 1 p.m. and end at 5 p.m on September 29, and continue from 9 a.m. until 5 p.m. on September 30.

ADDRESSES: The meeting will be held at the Beau Rivage Resort, 875 Beach Boulevard, Biloxi, Mississippi.

FOR FURTHER INFORMATION CONTACT: Mr. Larry W. Minor, Director of the Office of Bus and Truck Standards and Operations (MC-PS), 202-366-4009, Federal Motor Carrier Safety Administration, 400 Seventh Street SW., Washington, DC 20590.

SUPPLEMENTARY INFORMATION:

Background

On September 27, 2002 (67 FR 61212), FMCSA published a final rule revising its regulations concerning protection against shifting and falling cargo for CMVs operated in interstate commerce (49 CFR part 393). The new cargo securement standards are based on the North American Cargo Securement Standard Model Regulations, reflecting the results of a multi-year comprehensive research program to evaluate the then-current U.S. and Canadian cargo securement regulations; the motor carrier industry's best practices; and recommendations presented during a series of public meetings involving U.S. and Canadian industry experts, Federal, State and Provincial enforcement officials, and other interested parties. The Agency indicated that the intent of the rulemaking is to reduce the number of crashes caused by cargo shifting on or within, or falling from, CMVs operating in interstate commerce, and to harmonize to the greatest extent practicable U.S., Canadian and Mexican cargo securement regulations. Motor carriers were given until January 1, 2004, to comply with the new regulations.

Maintaining Uniformity Between U.S. and Canadian Cargo Securement Standards

FMCSA believes it is necessary to continue working with U.S. and Canadian industry experts, Federal, State and Provincial enforcement officials, and other interested parties to maintain to the greatest extent practicable, harmonization of U.S. and Canadian cargo securement standards. A major part of this effort includes uniformity in interpreting the meaning of the requirements adopted by the U.S. and Canada. While there are some differences between certain provisions of the regulations adopted by FMCSA and Canada's National Safety Code Standard 10, most of the contents of the model regulations have been adopted, or will soon be adopted, by almost all jurisdictions in the U.S. and Canada. To ensure consistency in the interpretation and enforcement of the requirements, FMCSA is working with its partners in Canada to develop a process for sharing information about requests for interpretation, and exchanging technical information that would be helpful to the regulatory agencies in developing responses to such requests. FMCSA would also work with its partners in Canada to ensure that interpretations are made available to all interested parties in an efficient and timely manner.

As part of the process for ensuring consistent interpretations of the harmonized cargo securement regulations, FMCSA is holding this public meeting to provide all interested parties the opportunity to participate in the discussions between the Agency and its Canadian counterparts about interpretations and other implementation issues. This is the second in a series of public meetings on this subject. The first meeting was held April 21-22 in Albuquerque, New Mexico (70 FR 16884, April 1, 2005). Minutes from the Albuquerque meeting, and the presentations made by participants have been placed in the docket listed at the beginning of this notice. The minutes and presentations from the Biloxi meeting and any future cargo securement implementation issues meetings will be placed in this docket. Future public meetings will be announced in the Federal Register.

Meeting Information

The meeting will be held on September 29-30, 2005, at the Beau Rivage Resort, 875 Beach Boulevard, Biloxi, Mississippi. The meeting is scheduled from 1 p.m. to 5 p.m. on September 29, and from 9 a.m. to 5 p.m. on September 30. The meeting is being held in connection with the Commercial Vehicle Safety Alliance's (CVSA) 2005 Fall Workshop. Attendance for the cargo securement meeting is free of charge and open to all interested parties. However, anyone interested in attending the sessions and committee meetings of the CVSA's 2005 Fall Workshop must register with the CVSA and pay the appropriate registration fee. For further information about registration for other sessions or meetings of the CVSA's 2005 Fall Workshop please contact the CVSA at (202) 775-1623.

Issued on: August 24, 2005.
Warren E. Hoemann,
Deputy Administrator.

[FR Doc. 05-17276 Filed 8-30-05; 8:45 am]

BILLING CODE 4910-EX-P